DEPARTMENT OF COMMERCE

International Trade Administration

[A-427-801, A-428-801, A-475-801, A-588-804, A-485-801, A-559-801, A-401-801, A-412-801]

Antifriction Bearings (Other Than Tapered Roller Bearings) and Parts Thereof From France, Germany, Italy, Japan, Romania, Singapore, Sweden, and the United Kingdom; Amendment of Preliminary Results of Antidumping Duty Administrative Reviews, and Notice of Intent To Revoke Orders in Part

AGENCY: Import Administration, International Trade Administration, Department of Commerce.

ACTION: Amendment of Preliminary Results of Antidumping Duty Administrative Reviews, Partial Rescission of Administrative Reviews, and Notice of Intent to Revoke Orders in Part.

EFFECTIVE DATE: February 26, 2001.

FOR FURTHER INFORMATION CONTACT: George Callen or Richard Rimlinger, Import Administration, International Trade Administration, U.S. Department of Commerce, 14th Street and Constitution Avenue, NW., Washington, DC 20230; telephone (202) 482-0180 or (202) 482-4477 respectively.

Summary

On February 5, 2001, the Department of Commerce (the Department) published in the Federal Register a Notice of Preliminary Results of Antidumping Duty Administrative Reviews, Partial Rescission of Administrative Reviews, and Notice of Intent to Revoke Orders in Part, 66 FR 8931. In that notice, at FR 8932, the Department indicated that, subsequent to the initiation of the review, we received a timely withdrawal of the request we had received for review of the antidumping duty order on ball bearings produced by SNR France. The notice should have indicated that we received a timely withdrawal of the request for review of cylindrical roller bearings rather than ball bearings by SNR France.

Amendment to Preliminary Results

Pursuant to 751(h) of the Tariff Act, we are amending the preliminary results of administrative reviews of the antidumping duty orders on antifriction bearings (other than tapered roller bearings) and parts thereof from France, Germany, Italy, Japan, Romania, Singapore, Sweden, and the United Kingdom. Under the section of the notice entitled Background, the last paragraph is changed to read as follows:

“Subsequent to the initiation of these reviews, we received timely withdrawals of the requests we had received for review of SKF (France), SKF (Germany), FAG (Germany), SNR (Germany), FAG (Italy), SOMECAT (Italy), Inoue Jikuuke Kogyo (Japan), Izumoto Seiko Co. (Japan), Koyo Romania (Romania), NMB/Pelmec (Singapore), SKF (Sweden), Barden (U.K.), and SNR (U.K.). We also received timely withdrawls of the requests we had received for review of RHP-NSK (U.K.) and SNR (France) with respect to CRBs only. Finally, we received a timely withdrawal of the request that we had received for review of Muro Corporation (Japan) with respect to BBs only. Because there were no other requests for review of the above-named firms, we are rescinding the reviews with respect to these companies in accordance with 19 CFR 351.213(d).”

This notice is published pursuant to section 751(h) of the Tariff Act. Effective January 20, 2001, Bernard T. Carreau is fulfilling the duties of Assistant Secretary for Import Administration.

Dated: February 8, 2001.
Bernard T. Carreau,
Deputy Assistant Secretary, AD/CVD Enforcement II.

[FR Doc. 01-4662 Filed 2-23-01; 8:45 am]

BILLING CODE 3510-DS-P